COMMISSION ON CIVIL RIGHTS

Agenda and Notice of Public Meeting of the Iowa, Kansas, Missouri, Nebraska, and Oklahoma State Advisory Committees

Notice is hereby given, pursuant to the provisions of the rules and regulations of the U.S. Commission on Civil Rights, that a conference call of the Iowa, Kansas, Missouri, Nebraska, and Oklahoma Advisory Committees will convene at 1:30 p.m. (c.s.t.) and adjourn at 3 p.m. on Thursday, April 1, 2004. The purpose of the conference call is to discuss the final plans for the “Midwest Civil Rights Listening Tour” to be held in May 2004.

This conference call is available to the public through the following call-in number: 1-800-473-6927, access code number 22484125. Any interested member of the public may call this number and listen to the meeting. Callers can expect to incur charges for calls not initiated using the supplied call-in number or made over wireless lines, and the Commission will not refund any incurred charges. Callers will incur no charge for calls using the call-in number over land-line connections. Persons with hearing impairments may also follow the proceedings by first calling the Federal Relay Service at 1-800-977-8339 and providing the Service with the conference call number and access code number.

To ensure that the Commission secures an appropriate number of lines for the public, persons are asked to register by contacting Jo Ann Daniels of the Central Regional Office at 913-551-1400 and TTY 913-551-1414, by 2 p.m. (c.s.t.) on Friday, March 26, 2004.

The meeting will be conducted pursuant to the provisions of the rules and regulations of the Commission.

Dated at Washington, DC, March 10, 2004.
Ivy L. Davis,
Chief, Regional Program Coordination Unit.

[FR Doc. 04-6136 Filed 3-17-04; 8:45 am]

BILLING CODE 6335-01-P